DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before March 2, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: To ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: January 25, 2011.
Darrin A. King,
Director, Information Collection Clearance Division, Regulatory Information Management Services, Office of Management.

Office of the Secretary

Type of Review: Extension.

Title of Collection: Streamlined Process for Education Department General Administrative Regulations (EDGAR) Approved Grant Applications.

OMB Control Number: 1894-0004.

Agency Form Number(s): N/A.

Frequency of Responses: As necessary.

Affected Public: State, Local, or Tribal Government, State Educational Agencies or Local Educational Agencies.

Total Estimated Number of Annual Responses: 1.

Total Estimated Annual Burden Hours: 1.

Abstract: This information collection clearance request seeks an extension of approval for an established expedited process which permits U.S. Department of Education (ED) program offices to make selection criteria substitutions under the Education Department General Administrative Regulations (EDGAR) grant application without having to submit to OMB a previously cleared application package for another review. Usage of the streamlined process for EDGAR approved grant applications, establishes a process for programs to submit an abbreviated list of items for an expedited streamlined approval process by OMB. Many discretionary grant programs in ED use the generic application package cleared under OMB #1894-0006 which allows programs to pick and choose the selection criteria for their grant competitions from among the general EDGAR selection criteria shown at 34 CFR 75.210. The remaining discretionary grant programs use program-specific application packages, cleared by OMB on a case-by-case basis, that require applicants to address specific selection criteria unique to the program, usually derived from program legislation or regulation. During the three-year period for which its specific application package is cleared, a program might need to substitute one or more of the EDGAR generic selection criteria, mentioned above, for one or more of the program-specific criteria contained in the package originally cleared by OMB. These substitutions generally result in a minor alteration in the burden hours imposed by the collection. Using an already approved application package for such actions reduces burden on the public best reaching the Departments goal of administering application competitions in a timely and efficient manner.

Requests for copies of the information collection submission for OMB review may be accessed from the RegInfo.gov Web site at http://www.reginfo.gov/public/do/PRAMain or from the Department's Web site at http://edicsweb.ed.gov, by selecting the “Browse Pending Collections” link and by clicking on link number 4449. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-1973 Filed 1-28-11; 8:45 am]

BILLING CODE 4000-01-P